DEPARTMENT OF ENERGY

Federal Energy Regulatory Commission

[Docket No. RP03-619-000]

Columbia Gas Transmission Corporation; Notice of Proposed Changes in FERC Gas Tariff

October 2, 2003.

Take notice that on September 26, 2003, Columbia Gas Transmission Corporation (Columbia) tendered for filing as part of its FERC Gas Tariff, Second Revised Volume No. 1, the following tariff sheets to, bearing a proposed effective date of October 26, 2003:

Seventh Revised Sheet No. 501

Second Revised Sheet No. 501A

Seventh Revised Sheet No. 503

Second Revised Sheet No. 503.01

Columbia states it is filing to revise its Tariff to insert a footnote, along with associated ADQ and DDQ columns in Appendix A to its Rate Schedule FTS, NTS and OPT pro forma service agreements. Columbia further states the inclusion of the proposed language will help make the pro forma service agreements for all of Columbia's firm transportation services consistent in this regard.

Columbia states that copies of its filing have been mailed to all firm customers, interruptible customers and affected state commissions.

Any person desiring to be heard or to protest said filing should file a motion to intervene or a protest with the Federal Energy Regulatory Commission, 888 First Street, NE., Washington, DC 20426, in accordance with § 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the “e-Filing” link.

Comment Date: October 8, 2003.

Magalie R. Salas,
Secretary.

[FR Doc. E3-00022 Filed 10-8-03; 8:45 am]

BILLING CODE 6717-01-P